DEPARTMENT OF THE TREASURY

Office of Thrift Supervision

[AC-3: OTS Nos. H-3634 and 17079]

Bank Mutual Corporation, Brown Deer, Wisconsin; Approval of Conversion Application

Notice is hereby given that on July 31, 2003, the Director, Supervision Policy, Office of Thrift Supervision (OTS), or her designee, acting pursuant to delegated authority, approved the application of Bank Mutual, Brown Deer, Wisconsin, to convert to the stock form of organization. Copies of the application are available for inspection by appointment (phone number: 202-906-5922 or e-mail: Public.Info@OTS.Treas.gov) at the Public Reading Room, OTS, 1700 G Street, NW., Washington, DC 20552; and the OTS Midwest Regional Office, 225 E. John Carpenter Freeway, Suite 500, Irving, Texas 75062-2326.

Dated: August 1, 2003.
By the Office of Thrift Supervision.
Nadine Y. Washington,
Corporate Secretary.

[FR Doc. 03-20057 Filed 8-5-03; 8:45 am]

BILLING CODE 6720-01-M